DEPARTMENT OF AGRICULTURE

Grain Inspection, Packers and Stockyards Administration

Proposed Posting of Stockyards

The Grain Inspection, Packers and Stockyards Administration, United States Department of Agriculture, has information that the livestock markets named below are stockyards as defined in Section 302 of the Packers and Stockyards Act (7 U.S.C. 202), and should be made subject to the provisions of the Packers and Stockyards Act, 1921, as amended (7 U.S.C. 181 et seq.).

AR-175 4-State Horse & Equipment Auction, Springdale, Arkansas

KY-176 Ohio Valley Stockyard, South Shore, Kentucky

MS-172 Mid South, Edwards, Mississippi

MS-173 C & H Auction Co., Inc., Columbus, Mississippi

NY-173 Gavel Masters Equine Sales, Inc., Horsehead, New York

SC-158 Strickland Auction Co., Gaston, South Carolina

TX-346 Texas Cattle Exchange, Inc., Eastland, Texas

Pursuant to the authority under Section 302 of the Packers and Stockyards Act, notice is hereby given that it is proposed to designate the stockyards named above as posted stockyards subject to the provisions of said Act.

Any person who wishes to submit written data, views or arguments concerning the proposed designation may do so by filing them with the Director, Office of Policy/Litigation Support, Grain Inspection, Packers and Stockyards Administration, Room 3418-South Building, U.S. Department of Agriculture, Washington, D.C. 20250, by April 13, 2000.

All written submissions made pursuant to this notice will be made available for public inspection in the office of the Director of the Office of Policy/Litigation Support during normal business hours.

Done at Washington, D.C. this 21st day of March 2000.
Warren P. Preston,
Acting Director, Office of Policy/Litigation Support, Packers and Stockyards Programs.

[FR Doc. 00-7669 Filed 3-28-00; 8:45 am]

BILLING CODE 3410-EN-P